DEPARTMENT OF ENERGY

Federal Energy Regulatory Commission

[Docket No. IC06-500-000; FERC-500]

Commission Information Collection Activities, Proposed Collection; Comment Request; Extension

March 23, 2006.

AGENCY: Federal Energy Regulatory Commission.

ACTION: Notice.

SUMMARY: In compliance with the requirements of section 3506(c)(2)(a) of the Paperwork Reduction Act of 1995 (Pub. L. 104-13), the Federal Energy Regulatory Commission (Commission) is soliciting public comment on the specific aspects of the information collection described below.

DATES: Comments on the collection of information are due May 30, 2006.

ADDRESSES: Copies of sample filings of the proposed collection of information can be obtained from the Commission's Web site (http://www.ferc.gov/docs-filing/elibrary.asp) or from the Federal Energy Regulatory Commission, Attn: Michael Miller, Office of the Executive Director, ED-34, 888 First Street, NE., Washington, DC 20426. Comments may be filed either in paper format or electronically. Those parties filing electronically do not need to make a paper filing. For paper filings, the original and 14 copies of such comments should be submitted to the Secretary of the Commission, Federal Energy Regulatory Commission, 888 First Street, NE., Washington, DC 20426 and refer to Docket No. IC06-500-000.

Documents filed electronically via the Internet must be prepared in WordPerfect, MS Word, Portable Document Format, or ASCII format. To file the document, access the Commission's Web site at http://www.ferc.gov and click on “Make an E-filing”, and then follow the instructions for each screen. First time users will have to establish a user name and password. The Commission will send an automatic acknowledgement to the sender's e-mail address upon receipt of comments.

All comments may be viewed, printed or downloaded remotely via the Internet through FERC's homepage using the eLibrary link. For user assistance, contact FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-500 “Application for License/Relicense for Water Projects With More Than 5 MW Capacity” (OMB No. 1902-0058) consists of the filing requirements as defined in 18 CFR Sections 4.32, 4.38, 4.40-41, 4.50-51, 4.61, 4.71, 4.93, 4.107-108, 4.201-202, 16.1, 16.10, 16.20, 292.203 and 292.208. The information collected under the requirements of FERC-500 is used by the Commission to determine the broad impact of a hydropower license application. In deciding whether to issue a license, the Commission gives equal consideration to full range of licensing purposes related to the potential value of a stream or river. Among these purposes are: Hydroelectric development; energy conservation; fish and wildlife resources; including their spawning grounds and habitat; visual resources; cultural resources; recreational opportunities; other aspects of environmental quality; irrigation; flood control and water supply.

Submission of the information is necessary to fulfill the requirements of the Federal Power Act in order for the Commission to make the required finding that the proposal is economically sound and is best adapted to a comprehensive plan for improving/developing a waterway or waterways. Under Part I of the Federal Power Act (FPA), (16 U.S.C. sections 791a et seq.), the Commission has the authority to issue licenses for hydroelectric projects on the waters over which Congress has jurisdiction. The Electric Consumers Protection Act (Pub. L. 99-495, 100 Stat. 1243) provides the Commission with the responsibility of issuing licenses for nonfederal hydroelectric plants. ECPA also amended the language of the FPA concerning environmental issues to ensure environmental quality.

In Order No. 2002 (68 FR 51070, August 25, 2003; FERC Statutes and Regulations ¶31,150 at p. 30,688) the Commission revised its regulations to create a new licensing process in which a potential license applicant's pre-filing consultation and the Commission's scoping process pursuant to the National Environmental Policy Act (42 U.S.C. 4321) are conducted concurrently rather than sequentially. The Commission estimated that if an applicant chooses to use the new licensing process, this could result in a reduction of 30% from the traditional licensing process. The reporting burden related to Order No. 2002 would be on average 32,200 hours as opposed to 46,000 hours per respondent in the traditional licensing process or 39,000 hours for the alternative licensing process. It has been nearly three years since Order No. 2002 was issued and applicants have experienced the opportunity to gain the benefits from the revised licensing process. In particular, applicants have benefited from (a) increased public participation in pre-filing consultation; (b) increased assistance from Commission staff to the potential applicant and stakeholders during the development of a license application; (c) development by the potential applicant of a Commission-approved study plan; (d) elimination of the need for post-application study requests; (e) issuance of public schedules and enforcement of deadlines; (f) better coordination between the Commission's processes, including the NEPA document preparation, and those of Federal and state agencies and Indian tribes with authority to require conditions for Commission-issued licenses. It is for these reasons, that the Commission will use the estimates projected in the table below.

The information collected is needed to evaluate license application pursuant to the comprehensive development standard of FPA sections 4(e) and 10(a)(1), to consider the comprehensive development analysis of certain factors with respect to the new license set forth in section 15, and to comply with NEPA, Endangered Species Act (16 U.S.C. section 1531 et seq.) and the National Historic Preservation Act (16 U.S.C. section 470 et seq.).

Commission staff conducts a systematic review of the prepared application with supplemental documentation provided by the solicitation of comments from other agencies and the public.

Action: The Commission is requesting a three-year extension of the current expiration date, with no changes to the existing collection of data.

Burden Statement: Public reporting burden for this collection is estimated as:

Number of respondents annually (1) | Number of responses per respondent (2) | Average burden hours per response (3) | Total annual burden hours (1) × (2) × (3)
13 | 1 | 35,620 | 15,744,040

Estimated cost burden to respondents is $62,430,000. ($7,800,000 (traditional process) + $17,600,000 (alternative process) + $37,030,000 (integrated process). These costs were determined by the percentage of applicants that would be using each of these processes. Annualized costs per project $2,600,000 (traditional); $2,200,000 (alternative licensing) and $1,610,000 (integrated licensing).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities, which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology; e.g., permitting electronic submission of responses.

Magalie R. Salas,
Secretary.

[FR Doc. E6-4591 Filed 3-29-06; 8:45 am]

BILLING CODE 6717-01-P